DEPARTMENT OF ENERGY

Federal Energy Regulatory Commission

[Project No. 15029-000]

SV Hydro, LLC; Notice of Preliminary Permit Application Accepted for Filing and Soliciting Comments, Motions To Intervene, and Competing Applications

On April 23, 2020, SV Hydro, LLC, filed an application for a preliminary permit, pursuant to section 4(f) of the Federal Power Act, proposing to study the feasibility of the Itasca County Pumped Storage Project (Itasca County Project or project) to be located near the City of Marble, Itasca County, Minnesota. The sole purpose of a preliminary permit, if issued, is to grant the permit holder priority to file a license application during the permit term. A preliminary permit does not authorize the permit holder to perform any land-disturbing activities or otherwise enter upon lands or waters owned by others without the owners' express permission.

The proposed project is a closed loop pumped storage project and would consist of the following: (1) A 50-foot-high, 120-acre-area circular upper reservoir constructed as a rockfill embankment with a total storage capacity of approximately 4,500 acre-feet at a maximum operating elevation of 1,455 feet mean sea level (msl); (2) an 18-foot-diameter upper intake; (3) a 2,800-foot-long, 16-foot-diameter vertical penstock excavated in granitic bedrock and lined with steel extending between the upper intake and the pump/turbines below; (4) a 5,400-foot to 4,200-foot-circular underground lower reservoir excavated in granitic bedrock, located 2,500 feet below the ground surface elevation of 1,410 msl with a usable storage capacity approximately the same as the upper reservoir and operational water elevations between minus 1,012.5 feet msl and minus 1,055 feet msl; (5) a 200-foot-long, 70-foot-wide, 130-foot-high powerhouse located 250 feet below the lower reservoir containing two vertical Francis reversible pump/turbine-motor/generator units rated for 333 megawatts each; (6) a 240-foot-long, 50-foot-wide, 40-foot-high underground transformer gallery; (7) a 200-foot-square above ground substation; (8) a 200 to 500-foot-long, 230 kilovolts (kV) transmission line extending from the substation to an existing 230 kV transmission line owned by others; and (9) appurtenant facilities. There would be no federal land within the proposed project boundary. The estimated annual generation of the Itasca County Project would be 1,500 gigawatt-hours.

Applicant Contact: Mr. Douglas Spaulding, P.E., Nelson Energy, 8441 Wayzata Blvd., Suite 101 Golden Valley, MN 55426; phone: (952) 544-8133.

FERC Contact: Sergiu Serban; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

More information about this project, including a copy of the application, can be viewed or printed on the “eLibrary” link of the Commission's website at http://www.ferc.gov/docs-filing/elibrary.asp. Enter the docket number (P-15029) in the docket number field to access the document. For assistance, contact FERC Online Support.

Dated: May 26, 2020.
Nathaniel J. Davis, Sr.,
Deputy Secretary.

[FR Doc. 2020-11688 Filed 5-29-20; 8:45 am]

BILLING CODE 6717-01-P